DEPARTMENT OF TRANSPORTATION

Federal Highway Administration

Environmental Impact Statement: Dallas and Ellis Counties, Texas

AGENCY: Federal Highway Administration (FHWA), DOT.

ACTION: Notice of Intent.

SUMMARY: The FHWA is issuing this notice to advise the public that an environmental impact statement will be prepared for a proposed transportation project in Dallas and Ellis Counties, Texas.

FOR FURTHER INFORMATION CONTACT: Mr. Patrick Bauer, P.E., District Engineer, Federal Highway Administration, 300 East 8th Street, Room 826, Austin, Texas 78701, Telephone 512-536-5950.

SUPPLEMENTARY INFORMATION: The FHWA, in cooperation with the Texas Department of Transportation (TxDOT) and the Dallas County Department of Public Works, will prepare an environmental impact statement (EIS) on the proposal to build Loop 9, a new location highway, from S.H. 360 to I.H. 20 in Southern Dallas and Northern Ellis Counties.

The study corridor is approximately 40 miles in length. From a regional and local perspective, there is a demand for additional east-west transportation capacity and access throughout the limits of the corridor. Over the last 30 years, this area has experienced tremendous growth and has more than quadrupled in population.

As directed by the Transportation Efficiency Act for the 21st Century (TEA-21), the Major Investment Study (MIS) will be integrated with the EIS. The Loop 9 facility is included in the Mobility 2025 Update: the Metropolitan Transportation Plan (MTP) for the Dallas-Fort Worth region, as a new location staged parkway calling for the preservation of right-of-way through this corridor. The environmental study will examine viable alternatives and potential transportation modes including the No-Build; Transportation Systems Management/Congestion Management Systems; controlled access freeway; and other potential options. It will also include extensive and continuous public involvement to address the long-term mobility needs of both the region and local communities. The environmental study will include the determination of the number of lanes (four to six are anticipated), roadway configuration, and operational characteristics. It will also include a discussion of the effects on the social, economic, and natural environments and of other known and reasonably foreseeable agency actions proposed within the Loop 9 study corridor.

Letters describing the proposed action and soliciting comments will be sent to appropriate Federal, State, and local agencies, and to private organizations and citizens who have previously expressed an interest or are known to have an interest in this proposal. A public scoping meeting is planned for the summer of 2002. The date will be announced locally at a later time. This will be the first in a series of meetings to solicit public comments on the proposed action during the National Environmental Policy Act (NEPA) process. In addition, a public hearing will be held. Public notice will be given of the time and place of the meetings and the hearing. The Draft EIS will be available for public and agency review and comment before the public hearing.

To ensure that the full range of issues related to this proposed action are addressed and all significant issues identified, comments and suggestions are invited from all interested parties. Comments or questions concerning this proposed action and the EIS should be directed to the FHWA at the address provided above.

(Catalogue of Federal Domestic Assistance Program Number 20.205, Highway Planning and Construction. The regulations implementing Executive Order 12372 regarding intergovernmental consultation on Federal programs and activities apply to this program.)

Issued on: July 25, 2002.
Patrick A. Bauer,
District Engineer, Austin, Texas.

[FR Doc. 02-19541 Filed 8-1-02; 8:45 am]

BILLING CODE 4910-22-M